SECURITIES AND EXCHANGE COMMISSION

Proposed Collection; Comment Request

Upon Written Request, Copies Available From: Securities and Exchange Commission, Office of Investor Education and Advocacy, Washington, DC 20549-0213.

Extension:

Rule 19d-2; OMB Control No. 3235-0205; SEC File No. 270-204.

Notice is hereby given that pursuant to the Paperwork Reduction Act of 1995 (44 U.S.C. 3501 et seq.) the Securities and Exchange Commission (“Commission”) is soliciting comments on the existing collection of information provided for in Rule 19d-2—Applications for Stays of Final Disciplinary Sanction (17 CFR 240.19d-2) under the Securities Exchange Act of 1934 (15 U.S.C. 78a et seq.) (“Exchange Act”). The Commission plans to submit this existing collection of information to the Office of Management and Budget (“OMB”) for extension and approval.

Rule 19d-2 under the Exchange Act prescribes the form and content of applications to the Commission by persons desiring stays of final disciplinary sanctions and summary action of self-regulatory organizations (“SROs”) for which the Commission is the appropriate regulatory agency.

It is estimated that approximately fifteen respondents will utilize this application procedure annually, with a total burden of 45 hours, based upon past submissions. The staff estimates that the average number of hours necessary to comply with the requirements of Rule 19d-2 is 3 hours.

Based on the most recent available information, the Commission staff estimates that the cost to respondents of complying with the requirements of Rule 19d-2 is $876 per response. Therefore, the Commission staff estimates that the total annual reporting cost per respondent is $876 (1 response/respondent/year × $876 cost/response), for a total annual related cost to all respondents of $13,140 ($876 cost/respondent × 15 respondents).

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

The Commission may not conduct or sponsor a collection of information unless it displays a currently valid control number. No person shall be subject to any penalty for failing to comply with a collection of information subject to the PRA that does not display a valid Office of Management and Budget control number.

Please direct your written comments to: Thomas Bayer, Director/Chief Information Officer, Securities and Exchange Commission, c/o Remi Pavlik-Simon, 6432 General Green Way, Alexandria, VA 22312 or send an e-mail to: PRA_Mailbox@sec.gov.

Dated: October 13, 2011.
Elizabeth M. Murphy,
Secretary.

[FR Doc. 2011-27097 Filed 10-19-11; 8:45 am]

BILLING CODE 8011-01-P